DEPARTMENT OF ENERGY

Federal Energy Regulatory Commission

Combined Notice of Filings #1

Take notice that the Commission received the following electric rate filings:

Docket Numbers: ER11-4044-023; ER11-4046-022; ER10-2136-015; ER16-1720-009.

Applicants: Gratiot County Wind LLC, Gratiot County Wind II LLC, Invenergy Cannon Falls LLC, Invenergy Energy Management LLC.

Description: Notice of Change in Facts of Gratiot County Wind LLC, et al.

Filed Date: 8/27/19.

Accession Number: 20190827-5021.

Comments Due: 5 p.m. ET 9/17/19.

Docket Numbers: ER19-2595-000.

Applicants: SR Hazlehurst III, LLC.

Description: Errata to August 13, 2019 SR Hazlehurst III, LLC tariff filing.

Filed Date: 8/23/19.

Accession Number: 20190823-5181.

Comments Due: 5 p.m. ET 9/13/19.

Docket Numbers: ER19-2683-000.

Applicants: EFS Parlin Holdings, LLC.

Description: § 205(d) Rate Filing: Reactive Power Rate Schedule to be effective 8/27/2019.

Filed Date: 8/26/19.

Accession Number: 20190826-5156.

Comments Due: 5 p.m. ET 9/16/19.

Docket Numbers: ER19-2684-000.

Applicants: Palmer Solar, LLC.

Description: Baseline eTariff Filing: Application for Market-Based Rate Authority to be effective 10/26/2019.

Filed Date: 8/27/19.

Accession Number: 20190827-5064.

Comments Due: 5 p.m. ET 9/17/19.

Docket Numbers: ER19-2685-000.

Applicants: ISO New England Inc.

Description: § 205(d) Rate Filing: Ministerial Filing to Conform Section I.2 of ISO-NE Tariff Effective 9/17/19 to be effective 9/17/2019.

Filed Date: 8/27/19.

Accession Number: 20190827-5081.

Comments Due: 5 p.m. ET 9/17/19.

Docket Numbers: ER19-2686-000.

Applicants: California Independent System Operator Corporation.

Description: § 205(d) Rate Filing: 2019-08-27 Transferred Frequency Response Agreement with Tucson Electric Power to be effective 12/1/2019.

Filed Date: 8/27/19.

Accession Number: 20190827-5093.

Comments Due: 5 p.m. ET 9/17/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 27, 2019.
Kimberly D. Bose,
Secretary.

[FR Doc. 2019-18924 Filed 8-30-19; 8:45 am]

BILLING CODE 6717-01-P